DEPARTMENT OF TRANSPORTATION

Maritime Administration

[USCG-2006-24644]

TORP Terminal LP, Bienville Offshore Energy Terminal Liquefied Natural Gas Deepwater Port License Application

AGENCY: Maritime Administration, DOT.

ACTION: Notice of application.

SUMMARY: The Coast Guard and the Maritime Administration (MARAD) announce that they have received an application for the licensing of a natural gas deepwater port, and that the application appears to contain the required information. This notice summarizes the applicant's plans and the procedures that will be followed in considering the application.

DATES: The Deepwater Port Act of 1974, as amended, requires any public hearing on this application to be held not later than 240 days after this notice, and requires a decision on the application to be made not later than 90 days after the final public hearing.

ADDRESSES: The public docket for USCG-2006-24644 is maintained by the: Docket Management Facility, U.S. Department of Transportation, 400 Seventh Street, SW., Washington, DC 20590-0001.

Docket contents are available for public inspection and copying, at this address, in room PL-401, between 9 a.m. and 5 p.m., Monday through Friday, except Federal holidays. The Facility's telephone is 202-366-9329, its fax is 202-493-2251, and its Web site for electronic submissions or for electronic access to docket contents is http://dms.dot.gov. Note that all comments received will be posted without change to http://dms.dot.gov including any personal information provided. Please see the Privacy Act heading below.

FOR FURTHER INFORMATION CONTACT: Mary K. Jager, U.S. Coast Guard, telephone: 202-267-6084, e-mail: mjager@comdt.uscg.mil. If you have questions on viewing the docket, call Andrea M. Jenkins, Program Manager, Docket Operations, telephone: 202-366-0271.

SUPPLEMENTARY INFORMATION:

Receipt of Application

On January 12, 2006, the Coast Guard and MARAD received an application from TORP Terminal LP, 15995 North Barkers Landing, Suite 310, Houston, Texas 77079 for all Federal authorizations required for a license to own, construct, and operate a deepwater port governed by the Deepwater Port Act of 1974, as amended, 33 U.S.C. 1501 et seq. (the Act). On May 1, 2006, we determined that the application appears to contain all information required by the Act.

Background

According to the Act, a deepwater port is a fixed or floating manmade structure other than a vessel, or a group of structures, located beyond State seaward boundaries and used or intended for use as a port or terminal for the transportation, storage, and further handling of oil or natural gas for transportation to any State.

A deepwater port must be licensed by the Maritime Administrator (by delegated authority of the Secretary of Transportation, published on June 18, 2003 (68 FR 36496)). Statutory and regulatory requirements for licensing appear in 33 U.S.C. 1501 et seq. and in 33 CFR part 148. Under delegations from and agreements between the Secretary of Transportation and the Secretary of Homeland Security, applications are processed by the Coast Guard and MARAD. Each application is considered on its merits.

The Act provides strict deadlines for processing an application. Once we determine that an application contains the required information, we must hold public hearings on the application within 240 days, and the Maritime Administrator must render a decision on the application within 330 days. We will publish additional Federal Register notices to inform you of these public hearings and other procedural milestones, including environmental review. The Maritime Administrator's decision, and other key documents, will be filed in the public docket.

At least one public hearing must take place in each adjacent coastal State. For purposes of the Act, Alabama is the adjacent coastal State for this application. Other States can apply for adjacent coastal State status in accordance with 33 U.S.C. 1508 (a)(2).

Summary of the Application

TORP Terminal LP, proposes to construct, own, and operate a deepwater port, named Bienville Offshore Energy Terminal (BOET), in the Federal waters of the Outer Continental Shelf on Main Pass block MP 258, approximately 63 miles south of Mobile Point, Alabama, in a water depth of approximately 425 feet. The BOET Deepwater Port would be capable of mooring two LNG carriers of up to approximately 250,000 cubic meter capacity by means of two Single Anchor Leg Moorings (SALMs).

The LNG carriers would be off loaded one at a time to HiLoad floating re-gasification facilities, which use four submerged shell-and-tube heat exchangers to vaporize the LNG before sending it via 14-inch diameter flexible risers to a Pipeline End Manifold (PLEM) on the seafloor, then through 30-inch diameter pipeline to the support platform, where the gas will be metered and further sent out via interconnecting pipelines to four existing pipelines (Dauphin Island Gathering System Feedline, Transco Feedline, Destin Feedline, and Viosca Knoll Gathering System Feedline).

The major fixed components of the proposed deepwater port would be the Support Platform, two PLEMs with ancillary risers and terminal pipelines, HiLoad parking line pilings, and approximately 25 miles of new pipeline.

BOET will have an average throughput capacity of 1.2 billion standard cubic feet per day (Bcsfd). No onshore pipelines or LNG storage facilities are associated with the proposed deepwater port application. A shore based facility will be used to facilitate movement of personnel, equipment, supplies, and disposable materials between the Terminal and shore.

Construction of the deepwater port would be expected to take 30 months; with startup of commercial operations in the latter half of 2009, should a license be issued. The deepwater port would be designed, constructed and operated in accordance with applicable codes and standards and would have an expected operating life of approximately 25 years.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

(Authority: 49 CFR 1.66)
By Order of the Maritime Administrator.
Dated: May 1, 2006.
Joel C. Richard,
Secretary, Maritime Administration.

[FR Doc. E6-6789 Filed 5-4-06; 8:45 am]

BILLING CODE 4910-81-P